CONSUMER PRODUCT SAFETY COMMISSION

16 CFR Chapter II

Children's Sleepwear Seminar

AGENCY: Consumer Product Safety Commission.

ACTION: Announcement of meeting.

SUMMARY: The Consumer Product Safety Commission (CPSC, Commission, or we) staff is holding a 1-day Flammable Fabrics Act (FFA) Children's Sleepwear Seminar (the Seminar). The Seminar will focus on testing, certification, and other compliance guidance relating to mandatory FFA standards and requirements for children's sleepwear. The Seminar will be held on October 20, 2016, at the CPSC offices in Bethesda Towers, Bethesda, MD. We invite interested parties to participate in or attend the Seminar.

DATES: The Seminar will be held on October 20, 2016 at 8:30 a.m. Individuals interested in serving on panels or presenting information at the Seminar should register by August 26, 2016; all other individuals who wish to attend in person should register as soon as possible because available spots may fill up.

ADDRESSES: The Seminar will be held in the 4th floor Hearing Room at the CPSC offices in Bethesda Towers, 4330 East West Highway, Bethesda, MD 20814. Persons interested in serving on a panel, presenting information, or attending the Seminar should register online at: http://www.cpsc.gov/meetingsignup.html (click on the link titled, “Children's Sleepwear Seminar”). Some sessions of the Seminar may be available through a webcast, but viewers will not be able to interact with the panels and presenters.

FOR FURTHER INFORMATION CONTACT: Carolyn Carlin, Textile Flammability Compliance Officer, Office of Compliance, 4330 East West Highway, Room 610-33, Bethesda, MD 20814. Telephone: 301-504-7889, Email: ccarlin@cpsc.gov; or, Paige Witzen, Textile Technologist, Division of Engineering; Directorate for Laboratory Sciences, 5 Research Place, Rockville, MD 20850, Room 117-03. Telephone: 301-987-2029, Email: pwitzen@cpsc.gov.

SUPPLEMENTARY INFORMATION: The FFA, 15 U.S.C. 1191-1204, regulates the manufacture of highly flammable clothing, including children's sleepwear. The FFA standards governing the flammability of children's sleepwear are found at 16 CFR parts 1615 and 1616. These regulations protect children from burns by requiring that children's sleepwear must be flame resistant, as demonstrated through prescribed flammability tests, and self-extinguish if the item catches fire.

The goal of the Seminar is to bring together CPSC staff and stakeholders (manufacturers, importers, retailers, suppliers, legal counsel, testing laboratories and other interested parties) to discuss testing, certification, and other compliance guidance relating to mandatory FFA standards and requirements for children's sleepwear products. The Seminar will include presentations by CPSC staff and industry representatives, as well as a panel discussion among manufacturers, importers, retailers, suppliers, legal counsel, testing laboratories, and other parties involved in the children's sleepwear industry. Topics covered during the Seminar may include:

Issues and questions about testing and compliance for children's sleepwear products regulated under the FFA.

challenges faced in implementing testing, certification, and quality control programs to ensure that regulated products are accurately identified, tested according to applicable children's sleepwear testing methods, and certified as conforming to the applicable children's sleepwear standard.

This Seminar will focus exclusively on issues related to current CPSC requirements for children's sleepwear.

Staff intends to organize and develop panels to address these topics, informed by responses to this announcement. In addition, participants may present individually. If you would like to be a presenter or panel member, you should register by August 26, 2016 (see the ADDRESSES portion of this document for the Web site link and instruction on how to register). Please submit a brief summary of the topic on which you would like to make a presentation or speak as a panel participant, and your area of expertise. Although every effort will be made to accommodate all persons who wish to be a presenter or panelist, CPSC staff will determine the final agenda. To assist in making the final panelist selections, CPSC staff may request that potential panelists submit presentations in addition to the initial summary. We will notify those who are selected as presenters and panelists by September 2, 2016. If you wish to attend and participate in the Seminar, but do not wish to be a presenter or panelist, you should also register as soon as possible because the CPSC Hearing Room has a limited occupancy. Please identify your affiliation with your registration.

Dated: August 2, 2016.
Todd A. Stevenson,
Secretary, Consumer Product Safety Commission.

[FR Doc. 2016-18597 Filed 8-4-16; 8:45 am]

BILLING CODE 6355-01-P